DEPARTMENT OF HEALTH AND HUMAN SERVICES

Centers for Disease Control and Prevention

[Program Announcement 01075]

Grant for the Study of the Genetic and Environmental Causes of Birth Defects; Notice of Availability of Funds

A. Purpose

The Centers for Disease Control and Prevention (CDC) announces the availability of fiscal year (FY) 2001 funds for a grant program to study the genetic and environmental causes of birth defects. This program addresses the “Healthy People 2010” focus areas of Environmental Health, and Maternal, Infant, and Child Health. The purpose of the program is to support research into the genetic and environmental causes of birth defects.

B. Eligible Applicant

Assistance will be provided only to the University of Louisville Birth Defects Center consistent with the Conference Report (H. Report 106-1033) to the CDC 2001 Appropriations Law (Public Law 106-554). The University of Louisville Birth Defects Center is also known as the University of Louisville Craniofacial Birth Defects Research Center. No other applications are solicited.

Note: Title 2 of the United States Code, chapter 26, section 1611 states that an organization described in section 501(c)(4) of the Internal Revenue Code of 1986 that engages in lobbying activities is not eligible to receive Federal funds constituting an award, grant, cooperative agreement, contract, loan or any other form.

C. Availability of Funds

Approximately $438,789 is available in FY 2001 to fund this award. It is expected that the award will begin on or about September 1, 2001, and will be made for a 12-month budget period within a project period of one year. The funding estimate may change.

Use of Funds

This award may be used for personnel services, equipment, travel, and other costs related to project activities. Project funds may not be used for health care services, patient care, construction, nor lease/purchase of facilities or space.

D. Where to Obtain Additional Information

This and other CDC announcements can be found on the CDC home page Internet address: http://www.cdc.gov. Click on “Funding” then “Grants and Cooperative Agreements.”

If you have questions after reviewing the contents of all the documents, business management technical assistance may be obtained from: Virginia Hall-Broadnax, Grants Management Specialist Grants Management Branch, Procurement and Grants Office Centers for Disease Control and Prevention 2920 Brandywine Road, Suite 3000, Mailstop E-13 Atlanta, GA 30341-4146 Telephone number: (770) 488-2700 E-mail address: vdh2@cdc.gov.

Technical assistance may be obtained from: William A. Paradies, Birth Defects and Pediatric Genetics Branch, National Center for Environmental Health, Centers for Disease Control and Prevention, 4770 Buford Highway, N.E. Atlanta, GA 30341-3724, Telephone number: (770) 488-4704, E-mail address: wep2@cdc.gov.

Dated: May 02, 2001.
John L. Williams,
Director, Procurement and Grants Office, Centers for Disease Control and Prevention (CDC).

[FR Doc. 01-11616 Filed 5-8-01; 8:45 am]

BILLING CODE 4163-18-P